DEPARTMENT OF COMMERCE

National Oceanic and Atmospheric Administration

RIN 0648-XD362

Final Atlantic Highly Migratory Species (HMS) Management-Based Research Needs and Priorities Document

AGENCY: National Marine Fisheries Service (NMFS), National Oceanic and Atmospheric Administration (NOAA), Commerce.

ACTION: Notice of availability.

SUMMARY: NMFS announces the availability of the Final Atlantic HMS Management-Based Research Needs and Priorities document. The purpose of this document is to communicate key research needs that directly support Atlantic HMS management. Atlantic HMS are defined as bluefin, bigeye, albacore, yellowfin, and skipjack tunas, swordfish, billfish (blue marlin, white marlin, roundscale spearfish, longbill spearfish, and sailfish), and sharks.

ADDRESSES: Electronic copies of the Final Atlantic HMS Management-Based Research Needs and Priorities document may also be obtained on the Internet at: http://www.nmfs.noaa.gov/sfa/hms/documents/final_hms_research_plan_2014.pdf

FOR FURTHER INFORMATION CONTACT: Steve Durkee by phone at (202) 670-6637.

SUPPLEMENTARY INFORMATION: The Atlantic HMS Management-Based Research Needs and Priorities document was developed by the Highly Migratory Species (HMS) Management Division of NMFS to communicate key research needs that directly support Atlantic HMS management. Atlantic HMS are defined as bluefin, bigeye, albacore, yellowfin, and skipjack tunas, swordfish, billfish (blue marlin, white marlin, roundscale spearfish, longbill spearfish, and sailfish), and sharks. The document contains a list of near and long-term research needs and priorities that can be used by individuals and groups interested in Atlantic HMS to identify key research needs, improve management, reduce duplication, prioritize limited funding, and form a potential basis for future funding. The priorities range from biological/ecological needs to socio-economic needs.

A draft version of this document was made available to the public on July 10, 2014 (79 FR 39367), and comments were requested on the content and usefulness. The draft version was also discussed at the September 2014 HMS Advisory Panel meeting. A few comments were received suggesting additional research needs and re-prioritization, many of which were incorporated. However, the final version remains largely unchanged from the draft. Many commenters felt the document was useful, including when applying for competitive research grants.

The document is one of several efforts to highlight key research needs for HMS. One early effort, the HMS Research Plan, was developed by NMFS scientists across HMS disciplines in response to identify specific research needs based upon known data gaps. This document complements the HMS Research Plan currently in draft and, although of different purpose, some aspects of the HMS Research Plan were included in this document. Other efforts are also underway in the Agency to identify key research needs relevant to Atlantic HMS management, such as the National Recreational Action Agenda and Regional Plans and the National Bycatch Reduction Engineering Program.

At this time, specific funding for the priorities outlined in this document has not been identified. However, the Agency is currently undergoing a strategic review of both management and science planning processes and resource allocations. This document will inform the strategic review of management planning and resource allocations. Additionally, there are several Requests for Proposals (RFPs) that support different types of competitively awarded funds for research. Some of these RFPs include funds for the Bycatch Reduction Engineering Program, Cooperative Research Program, and Saltonstall-Kennedy Grant Program. More information on these RFPs is available on the NOAA Fisheries Web site (www.nmfs.noaa.gov). This priorities document may be used by interested scientists who are applying for these or other funds as a way to highlight the need for the research.

While some of the priorities were derived from stock assessment reviews, other priorities were identified while developing and proposing management measures. Many of the research priorities address key data gaps and/or ways to reduce fishing mortality and/or bycatch to more effectively manage HMS fisheries, either directly or by improving stock assessments. Because these needs were identified by fishery managers, these research priorities may not correspond directly with the research priorities and needs identified by the scientists throughout NMFS.

Ongoing survey and monitoring programs are not discussed unless there is a specific suggestion for expansion of an existing program. These survey and monitoring programs, which include but are not limited to shark nursery and essential fish habitat studies, fishery-independent surveys, and observer programs, are vital to stock assessments and effective HMS management. These ongoing survey and monitoring programs should be considered high priority.

Authority: 16 U.S.C. 971 et seq., and 1801 et seq.

Dated: November 17, 2014.
Alan D. Risenhoover,
Director, Office of Sustainable Fisheries, National Marine Fisheries Service.

[FR Doc. 2014-27485 Filed 11-19-14; 8:45 am]

BILLING CODE 3510-22-P